DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: May 17, 2016, 8:30 a.m. to 5:00 p.m., May 18, 2016, 8:30 a.m. to 5:00 p.m.

Place: Hyatt Regency Bethesda, One Bethesda Metro Center (7400 Wisconsin Ave.), Bethesda, Maryland 20814, Telephone: 301 657-1234, Fax: 301 657-6453.

Status: The meeting will be open to the public.

Purpose: The purpose of the meeting is to discuss services and issues related to the health of migratory and seasonal agricultural workers and their families and to formulate recommendations for the Secretary of the Department of Health and Human Services.

Agenda: The agenda includes an overview of the Council's general business activities. The Council will also hear presentations from federal officials and experts on agricultural worker issues, including the status of agricultural worker health at the local and national levels. Agenda items are subject to change as priorities indicate.

Individuals who plan to attend and need special assistance, such as sign language interpretation or other reasonable accommodations, should notify the contact person listed below at least 10 days prior to the meeting.

For Further Information Contact: Esther Paul, MBBS, MA, MPH., Office of Policy and Program Development, Bureau of Primary Health Care, Health Resources and Services Administration, 5600 Fishers Lane, 16N38B, Maryland 20857; Phone number: (301) 594-4496.

Jackie Painter,
Director, Division of the Executive Secretariat.

[FR Doc. 2016-07909 Filed 4-5-16; 8:45 am]

BILLING CODE 4165-15-P